DEPARTMENT OF TRANSPORTATION

Federal Highway Administration

Notice of Final Federal Agency Actions on Proposed Highway in California

AGENCY: Federal Highway Administration (FHWA), DOT.

ACTION: Notice of limitation on claims for Judicial Review of actions by the California Department of Transportation (Caltrans), pursuant to 23 U.S.C. 327.

SUMMARY: The FHWA, on behalf of Caltrans, is issuing this notice to announce actions taken by Caltrans that are final. The actions relate to a proposed highway project, the Freight Corridor Improvement Project, on Interstate 5 (I-5) from State Route 134 (SR-134) (Postmile 27.0) to the Templin Highway Undercrossing (Postmile R67.0) Los Angeles County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 19, 2019. If the Federal law that authorizes judicial review of a claim provides a time period of less than 150 days for filing such claim, then that shorter time period still applies.

FOR FURTHER INFORMATION CONTACT: For Caltrans: Susan Tse-Koo, Senior Environmental Planner, Division of Environmental Planning, California Department of Transportation. Address: 100 S Main Street MS16A, Los Angeles CA 90012, Regular Office Hours M-F 8:00 a.m. to 5:00 p.m., Phone number (213) 897-1821, Email Susan.Tse@dot.ca.gov. For FHWA, contact David Tedrick at (916) 498-5024 or email david.tedrick@dot.gov.

SUPPLEMENTARY INFORMATION: Effective July 1, 2007, the FHWA assigned, and the Caltrans assumed, environmental responsibilities for this project pursuant to 23 U.S.C. 327. Notice is hereby given that the Caltrans have taken final agency actions subject to 23 U.S.C. 139(l)(1) by issuing licenses, permits, and approvals for the following highway project in the State of California.

Caltrans is proposing a Freight Corridor Improvement Project (Project) along I-5 in Los Angeles County from SR-134 (Postmile 27.0) to Templin Highway Undercrossing (Postmile R67.0) by increasing the vertical clearance to 16'-6” and eliminating load capacity restrictions for heavy loads. The proposed project will increase vertical clearance at Roscoe Blvd. Overcrossing (OC), Sunland Blvd. OC, Olinda St. Pedestrian Overcrossing (POC), Tuxford Off-ramp OC, Lankershim Blvd. OC, Peoria St. OC, Laurel Canyon Blvd. OC, and Sheldon St. OC. This will be accomplished by replacing the bridges and raising the bridge profiles by approximately 1 to 2 feet at the Overcrossings and about 4 feet at Olinda St. POC. The proposed project will also eliminate the load capacity restrictions for heavy loads at the Los Angeles River Bridge and Separation and Templin Highway Undercrossing by repairing the steel girders and un-staggering the steel cross frames at the Los Angeles River Bridge and Separation and by replacing the Templin Highway Undercrossing. The actions by the Federal agencies, and the laws under which such actions were taken, are described in the Final Environmental Assessment (FEA) with Finding of No Significant Impact (FONSI) for the project, approved on May 30, 2019, and in other documents in the FHWA project records. The FEA, FONSI and other project records are available by contacting Caltrans at the addresses provided above. The Caltrans FEA, FONSI can be viewed and downloaded from the project website at: https://dot.ca.gov/caltrans-near-me/district-7/district-7-programs/d7-environmental-docs.

This notice applies to all Federal agency decisions as of the issuance date of this notice and all laws under which such actions were taken, including but not limited to:

1. National Environmental Policy Act of 1969, as amended, 42 U.S.C. 4321 et seq.

2. Memorandum of Understanding with FHWA for NEPA assignment dated, December 23, 2016

3. MAP-21, the Moving Ahead for Progress in the 21st Century Act (Pub. L. 112-141)

4. Title VI of the Civil Rights Act of 1967

5. Comprehensive Environmental Response, Compensation and Liability Act (CERCLA) of 1980

6. Resource Conservation and Recovery Act (RCRA) of 1976

7. Safe, Accountable, Flexible and Efficient, Transportation Equity Act, A Legacy for Users (SAFETEA-LU)

8. Section 4(f), Department of Transportation Act of 1966

(Catalog of Federal Domestic Assistance Program Number 20.205, Highway Planning and Construction. The regulations implementing Executive Order 12372 regarding intergovernmental consultation on Federal programs and activities apply to this program.)

Authority: 23 U.S.C. 139(l)(1).

Issued on: July 15, 2019.
Tashia J. Clemons,
Director, Planning and Environment, Federal Highway Administration, Sacramento, California.

[FR Doc. 2019-15500 Filed 7-19-19; 8:45 am]

BILLING CODE 4910-RY-P